DEPARTMENT OF JUSTICE

Antitrust Division

Notice Pursuant to the National Cooperative Research and Production Act of 1993—Customer Experience Hub

Notice is hereby given that, on October 1, 2024, pursuant to section 6(a) of the National Cooperative Research and Production Act of 1993, 15 U.S.C. 4301 et seq. (“the Act”), The Customer Experience Hub (“CX Hub”) has filed written notifications simultaneously with the Attorney General and the Federal Trade Commission disclosing changes in its membership. The notifications were filed for the purpose of extending the Act's provisions limiting the recovery of antitrust plaintiffs to actual damages under specified circumstances.

Specifically, Alethium Technologies, Inc., West Hollywood, CA; Alliance for Cancer Gene Therapy, Inc., Stamford, CT; Areté Associates, Northridge, CA; Arsenal Medical, Inc., Waltham, MA; ASC Biosciences, Inc., Scottsdale, AZ; Association of University Research Parks Bio Health Caucus, College Park, MD; Barrow Wise Consulting LLC, Rockville, MD; Baylor College of Medicine, Houston, TX; Bio-Tech Pharmacal, Inc., Fayetteville, AR; BLEN, Inc., Washington, DC; Boise State University, Boise, ID; Caelum Diagnostic Solutions, Inc., Marina Del Rey, CA; Care+ Ventures LLC dba Naveon, Baton Rouge, LA; Clinical Data Interchange Standards Consortium, Inc., Austin, TX; CommunicateHealth, Inc., Rockville, MD; Community Health Design Corps LLC, Nashua, NH; Curavit Clinical Research Corp., Scarsdale, NY; Darena Solutions LLC, Chesterfield, MO; Eggschain, Inc., Austin, TX; Evernorth Health Services, Morris Plains, NJ; Exagen, Inc., Vista, CA; Femovate by Guidea, Austin, TX; FemTechnology, Inc., Middletown, DE; Florida State University, Tallahassee, FL; Gigantest, Inc., Baltimore, MD; Good Days, Frisco, TX; Health Evolve Technologies LLC, Columbia, SC; Health Tech Alley, Inc., Columbia, MD; Icarus Therapeutics, San Diego, CA; ICF Incorporated LLC, Reston, VA; Ignite Health, Houston, TX; Imaginostics, Orlando, FL; Imago Rehab, Inc., Lowell, MA; Immersion, Phoenix, AZ; InsiteOne LLC, Wallingford, CT; InvivoSciences, Inc., Madison, WI; JEEVA Clinical Trials, Inc., Manassas, VA; Kaiser Foundation Research Institute, Oakland, CA; Langrand and Company LLC, Houston, TX; Leva LLC, Westwood Hills, KS; LexisNexis Risk Solutions, Inc., Alpharetta, GA; MD Health Pathways, Dallas, TX; MedeAnalytics, Inc., Richardson, TX; MediPro Direct, Salt Lake City, UT; MentalHappy, Inc., San Francisco, CA; Metis Foundation, San Antonio, TX; Mike A. Myers Stroke Center, Dallas, TX; Minerva Medical Consulting LLC dba Menrva, Dallas, TX; MyHealth.Us, New York, NY; NanoMood Technologies LLC, La Jolla, CA; Nave Security, Charlotte, NC; OmniNano Pharmaceuticals LLC, Houston, TX; OncoSenX, Seattle, WA; PatientLink Enterprises, Inc., Oklahoma City, OK; Perimeter Medical Imaging Corp., Dallas, TX; Radyus Research, Inc., Atlanta, GA; Regents of the University of Michigan, Ann Arbor, MI; Regents of the University of Minnesota, Minneapolis, MN; Saltusbiotech, Pleasanton, CA; Sama Therapeutics, Inc., Cambridge, MA; Sky Solutions LLC, Herndon, VA; Smart Information Flow Technologies LLC, Minneapolis, MN; Society of Physician Entrepreneurs, South Norwalk, CT; Solving MS, Edmonds, WA; Southern Methodist University, Dallas, TX; Syncoro Health LLC, Northville, MI; The Innovation Foundation at Oklahoma State University, Inc., Stillwater, OK; The Ohio State University, Columbus, OH; Third Pole, Inc., Waltham, MA; Tranquil Clinical Research, Webster, TX; Triton Systems, Inc., Chelmsford, MA; University of Connecticut, Storrs, CT; University of Maryland, Baltimore, Baltimore, MD; University of South Florida Institute of Applied Engineering, Inc., Tampa, FL; Virginia Commonwealth University Massey Comprehensive Cancer Center, Richmond, VA; Visilant, Baltimore, MD; and XR 2 LEAD LLC, Dumfries, VA have been added as parties to this venture.

No other changes have been made in either the membership or planned activity of the group research project. Membership in this group research project remains open, and the CX Hub intends to file additional written notifications disclosing all changes in membership.

On January 11, 2024, the CX Hub filed its original notification pursuant to section 6(a) of the Act. The Department of Justice published a notice in the Federal Register pursuant to section 6(b) of the Act on April 16, 2024 (89 FR 26929).

The last notification was filed with the Department on July 3, 2024. A notice was published in the Federal Register pursuant to section 6(b) of the Act on September 26, 2024 (89 FR 78902).

Suzanne Morris,
Deputy Director Civil Enforcement Operations, Antitrust Division.

[FR Doc. 2024-28196 Filed 11-29-24; 8:45 am]

BILLING CODE 4410-11-P